DEPARTMENT OF THE INTERIOR

Bureau of Land Management

[OR120-01-7122-9028; GP1-08805]

Notice of Intent To Prepare an Environmental Impact Statement and Scoping On a Road Right-of-Way Application, Oregon

AGENCY: Bureau of Land Management, Interior.

ACTION: Notice.

SUMMARY: Pursuant to Section 102(2)(C) of the National Environmental Policy Act of 1969, the Bureau of Land Management (BLM), Coos Bay District, will be directing the preparation of an EIS to be prepared by a third party contractor on the impacts of a temporary road right-of-way on public land on the North Spit of Coos Bay, Oregon. BLM received a right-of-way application under Section 501 of the Federal Land Policy and Management Act of October 21, 1976, (43 U.S.C. 1737) on January 24, 2001. The proposed project involves improvement of an existing road and construction of a temporary spur road and trestle across public land to access the remains of the wreck of the New Carissa ship, mired in the surf of the beach. Following the deconstruction and removal of the wreck, the spur road and trestle would be removed and the areas rehabilitated.

DATES: This notice constitutes the beginning of the 30-day public scoping process. Interested individuals, organizations, and other agencies are encouraged to review the proposal and provide written comments by April 30, 2001. A public scoping meeting is scheduled at the following time and place: 7 p.m., April 12, 2001, North Bend Library, 1800 Sherman Ave., North Bend, OR

ADDRESSES: Please address questions, comments or concerns to the BLM, Coos Bay District Office, attn: Sue Richardson, 1300 Airport Lane, Coos Bay, OR 97459, fax: 541-751-4303.

FOR FURTHER INFORMATION CONTACT: Linda Petterson at the above address, or phone: 541-751-4207, or e-mail Linda_Petterson@or.blm.gov.

SUPPLEMENTARY INFORMATION: On February 4, 1999, the New Carissa ran aground on the North Spit of Coos Bay, Oregon. Numerous attempts to remove the ship from the beach failed, leaving the stern section mired in sand in the surf. Oregon Governor John Kitzhaber has ordered the removal of the ship from the state owned beach.

On January 24, 2001, BLM received an application from Donjon/Devine to improve an existing road and construct a new spur for the deconstruction and removal of the remainder of the wreck. Approximately two miles of road would be improved and approximately one-quarter mile of road and trestle would be constructed on public land located in:

Williamette Meridian

T.25S., R.13 W.,

Sec. 7 Lot 14, 15, 16, 17, 18;

T. 25S., R. 14 W.,

Sec. 12 Lot 1;

Sec. 13 Lot 1, 2, 3, 4

Road improvements would consist of grading, realignment and turnouts.

The EIS will consider the impacts of the Proposed Action, Alternative Actions and No Action Alternative. The no action alternative is required to be evaluated as part of the EIS and will be fully addressed in the EIS as one of the alternatives. Other alternatives may include marine-based removal.

If you have specific concerns about these issues, or have other concerns or issues that BLM should consider in processing this proposed right-of-way, please address them in writing to the above individual or state them verbally at the public scoping meetings scheduled at the time and location shown above. BLM will accept written comments at the address shown above until April 30, 2001.

The issues and concerns identified during the scoping process will be considered in the preparation of the draft EIS. The preliminary issues identified include: water resources and wetlands; vegetation; endangered and threatened species; wildlife; soils and geology; recreation, cultural resources; noxious weeds; land use. Those individuals, organizations, and agencies with a known interest in the proposal have been sent a scoping letter requesting comments on the proposal. Persons wishing to be added to the mailing list for this EIS may do so by contacting BLM at the above address.

The comment period on the draft EIS will last 60 days from the date the U.S. EPA Notice of Availability appears in the Federal Register. The draft EIS is expected to be available for review in Fall 2001. Because of recent court rulings, it is very important that those interested in the proposed action participate during the scoping and draft EIS review processes, so that any substantive comments are provided at a time when the BLM can meaningfully consider them. Comments, including names and addresses of respondents, will be available for public review at the Coos Bay District office during regular business hours (7:45 a.m. to 4:30 p.m., Monday to Friday, except holidays) and may be published as part of the EIS or other related documents. Individuals may request confidentiality. If you wish to withhold your name or address from public review or from disclosure under the Freedom of Information Act, you must state this promptly at the beginning of your written comment. Such requests will be honored to the extent allowed by law. All submissions from organizations or businesses, and from individuals identifying themselves as representatives or officials of organizations or businesses, will be made available for public inspection in their entirety.

Dated: March 13, 2001.
Terry A. Richards,
Acting District Manager.

[FR Doc. 01-7807 Filed 3-28-01; 8:45 am]

BILLING CODE 4310-33-M